DEPARTMENT OF THE INTERIOR

National Park Service

[NPS-WASO-NAGPRA-NPS0030235; PPWOCRADN0-PCU00RP14.R50000]

Notice of Inventory Completion: University of the Pacific, Dugoni School of Dentistry, San Francisco, CA

AGENCY: National Park Service, Interior.

ACTION: Notice.

SUMMARY: The University of the Pacific, Dugoni School of Dentistry has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the University of the Pacific, Dugoni School of Dentistry. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the University of the Pacific, Dugoni School of Dentistry at the address in this notice by July 6, 2020.

ADDRESSES: Dorothy Dechant, Center for Dental History and Craniofacial Study, University of the Pacific, Dugoni School of Dentistry, 155 Fifth Street, San Francisco, CA 94103-2919, telephone (415) 929-6627, email ddechant@pacific.edu.

SUPPLEMENTARY INFORMATION: Notice is here given in accordance with the Native American Graves Protection and Repatriation Act (NAGPRA), 25 U.S.C. 3003, of the completion of an inventory of human remains under the control of the University of the Pacific, Dugoni School of Dentistry, San Francisco, CA. The human remains were removed from eight sites in Sacramento County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Center for Dental History and Craniofacial Study (CDHCS) professional staff at the University of the Pacific, Dugoni School of Dentistry in consultation with representatives of the Ione Band of Miwok Indians of California; Picayune Rancheria of the Chukchansi Indians of California; Santa Rosa Indian Community of the Santa Rosa Rancheria, California; Shingle Springs Band of Miwok Indians, Shingle Springs Rancheria (Verona Tract), California; Table Mountain Rancheria (previously listed as Table Mountain Rancheria of California); Tejon Indian Tribe; Tule River Indian Tribe of the Tule River Reservation, California; United Auburn Indian Community of the Auburn Rancheria of California; Wilton Rancheria, California; and the Northern Valley Yokut, a non-federally recognized Indian group.

The Buena Vista Rancheria of Me-Wuk Indians of California; California Valley Miwok Tribe, California; Chicken Ranch Rancheria of Me-Wuk Indians of California; Jackson Band of Miwuk Indians (previously listed as Jackson Rancheria of Me-Wuk Indians of California); Tuolumne Band of Me-Wuk Indians of the Tuolumne Rancheria of California; as well as the Southern Sierra Miwuk Nation and the Tubatulabals of Kern Valley, California, non-federally recognized Indian groups, were invited but did not participate. Hereafter, all the above entities are referred to as “The Consulted Tribes and Groups.”

History and Description of the Remains

Sometime between 1920 and 1963, human remains representing, at minimum, one individual (one adult skull) were in the possession of Dr. Spencer Atkinson. Documentation describing the excavator, original date, location, removal and acquisition of the human remains does not exist. However, based on an associated handwritten note that includes the writing “Dalton 5/30/37,” and on research conducted by CDHCS professional staff, the University of the Pacific, Dugoni School of Dentistry reasonably believes that these human remains were removed in 1937 from the site of Dalton. In 1963, the human remains were transferred to the University of the Pacific School of Dentistry when Dr. Atkinson's private collection was donated to the school. No known individual was identified. No associated funerary objects are present.

In a 2015 Notice of Inventory Completion published in the Federal Register (80 FR 6121, February 4, 2015), California State University, Sacramento, CA, stated that human remains in their collection from Dalton had been “in the possession of Anthony Zallio, a private collector,” and that the exact location of the Dalton site “is currently unknown.”

Sometime between 1920 and 1963, human remains representing, at minimum, one individual (one adult skull) were in the possession of Dr. Spencer Atkinson. Documentation describing the excavator, original dates, locations, removal and acquisition of the human remains does not exist. However, based on an associated handwritten label that includes the writing “1-3-37 Goethe Maidu Nisenan,” and on research conducted by CDHCS professional staff, the University of the Pacific, Dugoni School of Dentistry reasonably believes that these human remains were removed in 1937 from Goethe Mound (CA-SAC-120). In 1963, the human remains were transferred to University of the Pacific School of Dentistry when Dr. Atkinson's private collection was donated to the school. No known individual was identified. No associated funerary objects are present.

In a 2015 Notice of Inventory Completion published in the Federal Register (80 FR 6751, February 6, 2015), California State University, Sacramento, CA, stated that human remains in their collection from site CA-SAC-120 had been “in the possession of Anthony Zallio, a private collector,” that the site was “located on the east bank of Deer Creek in northwest Elk Grove in central Sacramento County, CA,” and that “(l)imited archeological and ethnohistorical data is available for CA-SAC-120, but it is believed to represent a small Plains Miwok Village known as Shalachmushumne.”

Sometime between 1920 and 1963, human remains representing, at minimum, one individual (one adult skull) were in the possession of Dr. Spencer Atkinson. Documentation describing the excavator, original date, location, removal and acquisition of the human remains does not exist. However, based on an associated handwritten note that includes the writing “Hutchinson Mound Nishinan . . . May 35,” and on research conducted by CDHCS professional staff, the University of the Pacific, Dugoni School of Dentistry reasonably believes that these human remains were, in 1935, possibly removed from Hutchinson Mound. The note found associated with these human remains leaves the location of the site of acquisition somewhat uncertain, as it reads, “Hutchinson Mound Nishinan not from Slough Mound Consumne River . . . May 35.” In 1963, the human remains were transferred to the University of the Pacific School of Dentistry when Dr. Atkinson's private collection was donated to the school. No known individual was identified. No associated funerary objects are present.

In a 2015 Notice of Inventory Completion published in the Federal Register (80 FR 6121, February 4, 2015), California State University, Sacramento, CA, stated that human remains in their collection from Hutchinson Mound had been “in the possession of Anthony Zallio, a private collector,” and that the site was “believed to be located near Sloughhouse, in east-central Sacramento County, CA. The exact location is currently unknown.”

Sometime between 1920 and 1963, human remains representing, at minimum, two individuals (two adult skulls) were in the possession of Dr. Spencer Atkinson. Documentation describing the excavator, original dates, locations, removal and acquisition of the human remains does not exist. However, based on associated handwritten labels that include the writing “Nicholaus” (on one label) and a few letters of the word “Nicolaus” (on other label), and on research conducted by CDHCS professional staff, the University of the Pacific, Dugoni School of Dentistry reasonably believes that these human remains were removed from the Nicolaus Site #2 or Nicholas (CA-SAC-085). The date of removal is unknown. In 1963, the human remains were transferred to University of the Pacific School of Dentistry when Dr. Atkinson's private collection was donated to the school. No known individuals were identified. No associated funerary objects are present.

In a 2015 Notice of Inventory Completion published in the Federal Register (80 FR 6751, February 6, 2015), California State University, Sacramento, CA, stated that human remains in their collection from CA-SAC-085 had been “in the possession of Anthony Zallio, a private collector,” and noted that site CA-SAC-085 “may have been a suburb tribelet of a Hulpumne Plains Miwok village site located nearby at CA-SAC-086.”

Based on communications with professional staff at the California State University, Sacramento, it has been determined that the handwriting on some of the associated notes and labels described here resembles Anthony Zallio's handwriting, as found on written materials associated with the human remains that he donated in 1951 to the Department of Anthropology at Sacramento State College (now California State University, Sacramento). In a 2015 Notice of Inventory Completion published in the Federal Register (80 FR 6751, February 6, 2015), that includes human remains from the sites of CA-SAC-085 (also known as Nicolaus Site #2 or Nicholas) and CA-SAC-120 (also known as Goethe Mound #1 and #2), California State University, Sacramento noted that “Zallio excavated mound sites prior to leveling for agricultural and development, and it is believed that the most recent occupation of the sites was likely intact at the time. Based on this circumstantial evidence, it is more likely than not that Zallio collected human remains and cultural items from the youngest deposits. Such deposits date to the Historic Period and Late Horizon; the preponderance of evidence indicates that these temporal periods are most closely culturally affiliated with the Plains Miwok, with more distant ties to neighboring groups such as the Nisenan, Patwin, and Yokuts.”

Sometime between 1920 and 1963, human remains representing, at minimum, one individual (one adult cranium) were in the possession of Dr. Spencer Atkinson. Documentation describing the excavator, original date, location, removal and acquisition of the human remains does not exist. However, based on an associated handwritten label that includes the writing “Nisenan Nichols 2-25-35,” and on research conducted by CDHCS professional staff, the University of the Pacific, Dugoni School of Dentistry reasonably believes that these human remains were removed in 1935 from Nichols Mound (CA-SAC-007, also possibly known as Nicholls Site), which is believed to be located approximately one mile southeast of the intersection of Bruceville and Desmond roads in southwest Sacramento County, CA. In 1963, the human remains were transferred to the University of the Pacific School of Dentistry when Dr. Atkinson's private collection was donated to the school. No known individual was identified. No associated funerary objects are present.

In a 2015 Notice of Inventory Completion published in the Federal Register (80 FR 6751, February 6, 2015), California State University, Sacramento stated that human remains in their collection had been removed from CA-SAC-006 “(also known as Johnson Mound), located approximately 1.3 miles west of the Cosumnes River and 5.5 miles northeast of the intersection of the Mokelumne and Cosumnes Rivers in southern Sacramento County, CA,” and that “Ethnographic and historic data suggest that this site (CA-SAC-006) was once the tribelet center for the Consomne Plains Miwok.” Site CA-SAC-007 and Site CA-SAC-006 appear to be in close geographic proximity.

Sometime between 1920 and 1963, human remains representing, at minimum, four individuals (four adult skulls) were in the possession of Dr. Spencer Atkinson. Documentation describing the excavator, original date, location, removal and acquisition of the human remains does not exist. However, based on associated handwritten labels that include the writing “Thisle” (on three labels) and “Tistle Nisenan 7-2-35” (on fourth label), and on research conducted by CDHCS professional staff, the University of the Pacific, Dugoni School of Dentistry reasonably believes that these human remains were removed sometime around 1935 from the site of Thistle. In 1963, the human remains were transferred to the University of the Pacific School of Dentistry when Dr. Atkinson's private collection was donated to the school. No known individuals were identified. No associated funerary objects are present.

In a 2015 Notice of Inventory Completion published in the Federal Register (80 FR 6121, February 4, 2015), California State University, Sacramento stated that human remains in their collection from Thistle had been “in the possession of Anthony Zallio, a private collector,” and that the site was “believed to be located in west-central Sacramento County, CA. The exact location is currently unknown.”

Sometime between 1920 and 1963, human remains representing, at minimum, one individual (one adult skull) were in the possession of Dr. Spencer R. Atkinson. Documentation describing the excavator, original date, exact location, removal and acquisition of the human remains does not exist. However, based on associated written evidence, and on research conducted by CDHCS professional staff, the University of the Pacific, Dugoni School of Dentistry reasonably believes that these human remains were removed in 1937 from an undetermined site in the Sacramento Valley. In 1963, the human remains were transferred to the University of the Pacific School of Dentistry when Dr. Atkinson's private collection was donated to the school. No known individual was identified. No associated funerary objects are present.

Sometime between 1920 and 1963, human remains representing, at minimum, four individuals (one adult cranium, three adult skulls) were in the possession of Dr. Spencer Atkinson. Documentation describing the excavator, original dates, locations, removal and acquisition of the human remains does not exist. However, based on associated handwritten labels that include the writing “Bennett” and “1935,” and on research conducted by CDHCS professional staff, the University of the Pacific, Dugoni School of Dentistry reasonably believes that these human remains were removed in 1935 from Bennett Site or Bennett Mound (CA-SAC-016). In 1963, the human remains were transferred to University of the Pacific School of Dentistry when Dr. Atkinson's private collection was donated to the school. No known individuals were identified. No associated funerary objects are present.

In a 2011 Notice of Inventory Completion published in the Federal Register (76 FR 14052, March 15, 2011), California State University stated that they “reasonably believe that the ethnographic, historical and geographic evidence indicates that the historic burials and cultural items recovered from Site CA-SAC-16 are most closely affiliated with contemporary descendants of Nisenan, and have more distant ties to neighboring groups, such as the Plains Miwok. Furthermore, the earlier cultural items from the Middle and Late Horizons share cultural relations with the Nisenan and Plains Miwok based on archaeological, biological and historical linguistic evidence.”

Determinations Made by the University of the Pacific, Dugoni School of Dentistry

Officials of the University of the Pacific, Dugoni School of Dentistry have determined that:

• Pursuant to 25 U.S.C. 3001(9), the human remains described in this notice represent the physical remains of 15 individuals of Native American ancestry.

• Pursuant to 25 U.S.C. 3001(2), there is a relationship of shared group identity that can be reasonably traced between the Native American human remains and the Buena Vista Rancheria of Me-Wuk Indians of California; Cachil DeHe Band of Wintun Indians of the Colusa Indian Community of the Colusa Rancheria, California; California Valley Miwok Tribe, California; Chicken Ranch Rancheria of Me-Wuk Indians of California; Ione Band of Miwok Indians of California; Jackson Band of Miwuk Indians (previously listed as Jackson Rancheria of Me-Wuk Indians of California); Kletsel Dehe Band of Wintun Indians (previously listed as Cortina Indian Rancheria and the Cortina Indian Rancheria of Wintun Indians of California); Picayune Rancheria of the Chukchansi Indians of California; Santa Rosa Indian Community of the Santa Rosa Rancheria, California; Shingle Springs Band of Miwok Indians, Shingle Springs Rancheria (Verona Tract), California; Susanville Indian Rancheria, California; Table Mountain Rancheria (previously listed as Table Mountain Rancheria of California); Tejon Indian Tribe; Tule River Indian Tribe of the Tule River Reservation, California; Tuolumne Band of Me-Wuk Indians of the Tuolumne Rancheria of California; United Auburn Indian Community of the Auburn Rancheria of California; Wilton Rancheria, California; Wiyot Tribe, California (previously listed as Table Bluff Reservation—Wiyot Tribe); and the Yocha Dehe Wintun Nation, California (previously listed as Rumsey Indian Rancheria of Wintun Indians of California) (hereafter referred to as “The Affiliated Tribes”).

Additional Requestors and Disposition

Lineal descendants or representatives of any Indian Tribe or Native Hawaiian organization not identified in this notice that wish to request transfer of control of these human remains should submit a written request with information in support of the request to Dorothy Dechant, University of the Pacific, Dugoni School of Dentistry, 155 Fifth Street, San Francisco, CA 94103-2919, telephone (415) 929-6627, email ddechant@pacific.edu, by July 6, 2020. After that date, if no additional requestors have come forward, transfer of control of the human remains to The Affiliated Tribes may proceed. If joined to a request from one or more of The Affiliated Tribes, the following non-federally recognized Indian groups may receive transfer of control of the human remains: the Colfax-Todds Valley Consolidate Tribe; Miwok Tribe of El Dorado Rancheria; Nashville Enterprise Miwok-Maidu-Nishinam Tribe; and Tsi Akim Maidu.

The University of the Pacific, Dugoni School of Dentistry is responsible for notifying The Consulted Tribes and Groups and The Affiliated Tribes that this notice has been published.

Dated: April 23, 2020.
Melanie O'Brien,
Manager, National NAGPRA Program.

[FR Doc. 2020-11964 Filed 6-2-20; 8:45 am]

BILLING CODE 4312-52-P